DEPARTMENT OF THE INTERIOR

Office of the Secretary

Notice of Proposed Information Collection

AGENCY: Office of the Secretary, Office of Acquisition and Property Management.

ACTION: Notice and request for comments.

SUMMARY: In compliance with section 3506(c)(2)(A) of the Paperwork Reduction Act of 1995, the Office of the Secretary of the Department of the Interior announces the proposed extension of an information collection required by Office of Management and Budget (OMB) Circular A-45 (Revised): “Private Rental Survey,” OMB Control No. 1084-0033, and that it is seeking comments on its provisions. After public review, the Office of the Secretary will submit the information collection to OMB for review and approval.

DATES: Consideration will be given to all comments received by February 12, 2007.

ADDRESSES: Written comments and recommendations on the proposed information collection should be sent to the Office of the Secretary Information Collection Budget Officer, Sue Ellen Sloca, 1951 Constitution Avenue, NW., MS 120 SIB, Washington, DC 20240, or electronically, by e-mail, to sue_ellen_sloca@nbc.gov. Individuals providing comments should reference OMB control number 1084-0033, “Private Rental Survey.”

FOR FURTHER INFORMATION CONTACT: To request more information on this proposed information collection or to obtain a copy of the proposal and associated collection instrument, please write to the above address, or call Linda Tribby, Mail Stop 2607, 1849 C Street, NW., Washington, DC 20240, or e-mail her on linda_tribby@ios.doi.gov.

SUPPLEMENTARY INFORMATION:

I. Abstract

Office of Management and Budget (OMB) regulations at 5 CFR 1320, which implement the Paperwork Reduction Act of 1995 (Pub. L. 104-13), require that interested members of the public and affected agencies have an opportunity to comment on information collection and recordkeeping activities (see 5 CFR 1320.8 (d)). This notice identifies an information collection activity that the Office of the Secretary will submit to OMB for extension or re-approval.

Public Law 88-459 authorizes Federal agencies to provide housing for Government employees under specified circumstances. In compliance with OMB Circular A-45 (Revised), Rental and Construction of Government Quarters, a review of private rental market housing rates is required at least once every 5 years to ensure that the rental, utility charges, and charges for related services to occupants of Government Furnished Quarters (GFQ) are comparable to corresponding charges in the private sector. To avoid unnecessary duplication and inconsistent rental rates, the Office of Acquisition and Property Management (PAM) conducts housing surveys in support of quarters management programs for the Departments of the Interior (DOI), Agriculture, Commerce, Defense, Homeland Security, Justice, Transportation, Treasury, Health and Human Services, and Veterans Affairs. In this survey, two collection forms are used: OS-2000, covering “Houses—Apartments—Mobile Homes” and OS-2001, covering “Trailer Spaces.”

This collection of information provides data that helps DOI and the other Federal agencies to manage GFQ within the requirements of OMB Circular A-45 (Revised.) If this information were not collected from the public, DOI and the other Federal agencies required to provide GFQ would have no objective basis for determining open market rental costs for GFQ.

II. Data

(1) Title: Private Rental Survey.

OMB Control Number: 1084-0033.

Current Expiration Date: 04/30/2007.

Type of Review: Information Collection: Renewal.

Affected Entities: Individuals or households, Businesses and other for-profit institutions.

Estimated annual number of respondents: OS-2000: 3,672; OS-2001: 200; Total: 3,872.

Frequency of response: once per respondent per year,

Note: Each of 15 regions is surveyed every, 4th year, with 3-4 regions being surveyed, each year.

(2) Annual reporting and recordkeeping burden.

Estimated burden per response: OS-2000: 12 minutes; OS-2001: 10 minutes.

Total annual reporting: OS-2000: 734 hours; OS-2001: 33 hours, Total: 767 hours.

(3) Description of the need and use of the information: This information collection provides the data that enables DOI to determine open market rental costs for GFQ. These rates, in turn, enable DOI and other Federal agencies to manage GFQ within the requirements of OMB Circular A-45 (Revised).

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

Dated: November 30, 2006.
Debra E. Sonderman,
Director Office of Acquisition and Property Management.

[FR Doc. E6-21142 Filed 12-12-06; 8:45 am]

BILLING CODE 4310-RK-P